DEPARTMENT OF HEALTH AND HUMAN SERVICES

National Institutes of Health

Proposed Collection; Comment Request; Cancer Biomedical Informatics Grid® (caBIG®) Support Service Provider (SSP) Program (NCI)

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: cancer Biomedical Informatics Grid ® (caBIG ®) Support Service Provider (SSP) Program (NCI). Type of Information Collection Request: Existing Collection in Use Without an OMB Number. Need and Use of Information Collection: The NCI Center for Biomedical Informatics and Information Technology (CBIIT) launched the enterprise phase of the caBIG ® initiative in early 2007 with an emphasis on widespread institutional adoption of the program and tools. This emphasis on adoption has generated an expanding community with diverse needs for support, which are met through the resources available through the caBIG ® Enterprise Support Network (ESN), including the caBIG ® Support Service Provider (SSP) Program. The caBIG ® SSPs provide caBIG ® end-users with the freedom to match what caBIG ® has to offer to their unique organizational goals and needs, so having this customized support option available is critically important to advancing the goals of the caBIG ® program. caBIG ® SSP applicants are evaluated against well-defined criteria published in the SSP Program Announcement and must successfully demonstrate that they have the technical capabilities, staffing and scalability, geographic coverage (when applicable), and the domain expertise in biomedicine to effectively serve caBIG ® users. The information submitted by SSP applicants enables NCI to determine whether such applicants are qualified to enter into trademark license negotiations with NCI to use the caBIG ® trademarks in connection with their services and become designated as caBIG ® SSPs. Thus, the collection of information from SSP applicants is critical to both ensuring that the goals and objectives of the caBIG ® program will be maintained and furthered by the organizations designated as SSPs and facilitating NCI's ability to exercise appropriate stewardship of the caBIG ® trademarks. Sections 410 and 411 of the Public Health Service Act (42 U.S.C. 285 and 285a) authorize the collection of the information. Frequency of Response: once for the applicants. caBIG ® SSP applications are accepted on a rolling basis and reviewed several times a year. Affected Public: Private sector including Business or other for-profits and not-for-profit organizations and institutions. Type of Respondents: Technical representatives of commercial, academic or not-for-profit organizations. The annual reporting burden is estimated at 360 hours.

There are no Capital Costs, Operating Costs, and/or Maintenance Costs to report.

A.12—1 Estimates of Annual Burden Hours
Type of respondents | Number of respondents | Frequency of response | Average time per response (minutes/hour) | Annual burden hours
Commercial Organizations | 14 | 1 | 1440/60 (24 hours) | 336
Nonprofit Organizations | 1 | 1 | 1440/60 (24 hours) | 24
Totals | 15 |  |  | 360

Request for Comments: Written comments and/or suggestions from the public and affected agencies are invited on one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact John Speakman, NCI CBIIT Chief Program Officer, Center for Biomedical Informatics and Information Technology, National Cancer Institute, NIH, DHHS, 2115 E. Jefferson Street, Suite 6000, Rockville, MD 20892 or call non-toll-free number 301-451-8786 or e-mail your request, including your address to: john.speakman@nih.gov.

Comments Due Date: Comments regarding this information collection are best assured of having their full effect if received within 60 days of the date of this publication.

Dated: February 4, 2011.
Vivian Horovitch-Kelley,
NCI Project Clearance Liaison, National Institutes of Health.

[FR Doc. 2011-3144 Filed 2-10-11; 8:45 am]

BILLING CODE 4140-01-P